NUCLEAR REGULATORY COMMISSION

[Docket Nos. 50-369, 50-370, 50-413, and 50-414]

Duke Energy Corporation, McGuire Nuclear Station, Unit Nos. 1 and 2; North Carolina Electric Membership Corporation, Saluda River Electric Cooperative, Inc. for Catawba Nuclear Station, Unit No. 1; and North Carolina Municipal Power Agency No. 1, Piedmont Municipal Power Agency for Catawba Nuclear Station, Unit No. 2; Notice of Issuance of Renewed Facility Operating License Nos. NPF-9, NPF-17, NPF-35, and NPF-52 for an Additional 20-Year Period

Notice is hereby given that the U.S. Nuclear Regulatory Commission (the Commission) has issued Renewed Facility Operating License Nos. NPF-9, NPF-17, NPF-35, and NPF-52 to Duke Energy Corporation (the licensee), the operator of the McGuire Nuclear Station, Unit Nos. 1 and 2 (McGuire, Units 1 and 2), and North Carolina Electric Membership Corporation and Saluda River Electric Cooperative, Inc. for Catawba Nuclear Station, Unit No. 1 (Catawba, Unit 1), and North Carolina Municipal Power Agency No. 1 and Piedmont Municipal Power Agency for Catawba Nuclear Station, Unit No. 2 (Catawba, Unit 2). Renewed Facility Operating License No. NPF-9 authorizes operation of McGuire, Unit 1, by the licensee at reactor core power levels not in excess of 3411 megawatts thermal in accordance with the provisions of the McGuire, Unit 1, renewed license and its Technical Specifications. Renewed Facility Operating License No. NPF-17 authorizes operation of McGuire, Unit 2, by the licensee at reactor core power levels not in excess of 3411 megawatts thermal in accordance with the provisions of the McGuire, Unit 2, renewed license and its Technical Specifications. Renewed Facility Operating License No. NPF-35 authorizes operation of Catawba, Unit 1, by Duke Energy Corporation at reactor core power levels not in excess of 3411 megawatts thermal in accordance with the provisions of the Catawba, Unit 1, renewed license and its Technical Specifications. Renewed Facility Operating License No. NPF-52 authorizes operation of Catawba, Unit 2, by Duke Energy Corporation at reactor core power levels not in excess of 3411 megawatts thermal in accordance with the provisions of the Catawba, Unit 2, renewed license and its Technical Specifications.

McGuire, Units 1 and 2, are pressurized water nuclear reactors located in Mecklenburg County, 17 miles northwest of Charlotte, North Carolina. Catawba, Units 1 and 2, are pressurized water nuclear reactors located in York County, 18 miles southwest of Charlotte, North Carolina.

The applications for the renewed licenses complied with the standards and requirements of the Atomic Energy Act of 1954, as amended (the Act), and the Commission's regulations. As required by the Act and the Commission's regulations in 10 CFR Chapter I, the Commission has made appropriate findings, which are set forth in each license. Prior public notice of the action involving the proposed issuance of these renewed licenses and of an opportunity for a hearing regarding the proposed issuance of these renewed licenses was published in the Federal Register on July 16, 2001 (66 FR 37072).

For further details with respect to this action, see (1) the Duke Energy Corporation's license renewal applications for McGuire, Units 1 and 2, and Catawba, Units 1 and 2, dated June 13, 2001, as supplemented by letters dated March 1, March 8, March 11, March 15, April 15, June 25 (two letters), June 26, July 9, October 2, October 28, November 5, November 14, November 18, November 21, and December 16, 2002; (2) the Commission's safety evaluation report, dated August 14, 2002, and March 2003 (NUREG-1772); (3) the licensee's updated final safety analysis report; and (4) the Commission's final environmental impact statement (NUREG-1437, Supplements 8 and 9), dated December 2002. These documents are available at the NRC's Public Document Room, One White Flint North, 11555 Rockville Pike, first floor, Rockville, Maryland 20852, and can be viewed from the NRC Public Electronic Reading Room at (http://www.nrc.gov/reading-rm/adams.html).

Copies of Renewed Facility Operating License Nos. NPF-9, NPF-17, NPF-35, and NPF-52 may be obtained by writing to the U.S. Nuclear Regulatory Commission, Washington, DC 20555-0001, Attention: Director, Division of Regulatory Improvement Programs. Copies of the safety evaluation report (NUREG-1772), and the final environmental impact statement (NUREG-1437, Supplements 8 and 9) may be purchased from the National Technical Information Service, Springfield, Virginia 22161-0002 (http://www.ntis.gov), 1-800-553-6847, or the Superintendent of Documents, U.S. Government Printing Office, P.O. Box 371954, Pittsburgh, PA 15250-7954 (http://www.access.gpo.gov/su_docs/index.html), 202-512-1800. All orders should clearly identify the NRC publication number and the requestor's Government Printing Office deposit account number or VISA or MasterCard number and expiration date.

Dated at Rockville, Maryland, this 5th day of December 2003.
For the Nuclear Regulatory Commission.
Pao-Tsin Kuo,
Program Director, License Renewal and Environmental Impacts Program, Division of Regulatory Improvement Programs, Office of Nuclear Reactor Regulation.

[FR Doc. 03-30686 Filed 12-10-03; 8:45 am]

BILLING CODE 7590-01-P